DEPARTMENT OF VETERANS AFFAIRS

[OMB Control No. 2900—New (VA Form 0924)]

Agency Information Collection (VA National Rehabilitation Special Events, Event Registration Applications) Activities Under OMB Review

AGENCY: Office of National Programs and Special Events, Department of Veterans Affairs.

ACTION: Notice.

SUMMARY: In compliance with the Paperwork Reduction Act (PRA) of 1995 (44 U.S.C. 3501-21), this notice announces that the Office of National Programs and Special Events, Department of Veterans Affairs, will submit the collection of information abstracted below to the Office of Management and Budget (OMB) for review and comment. The PRA submission describes the nature of the information collection and its expected cost and burden; it includes the actual data collection instrument.

DATES: Comments must be submitted on or before June 7, 2010.

ADDRESSES: Submit written comments on the collection of information through www.Regulations.gov or to VA's OMB Desk Officer, OMB Human Resources and Housing Branch, New Executive Office Building, Room 10235, Washington, DC 20503, (202) 395-7316. Please refer to “OMB Control No. 2900-New (VA Form 0924)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@va.gov. Please refer to “OMB Control No. 2900-New (VA Form 0924)”.

SUPPLEMENTARY INFORMATION: Titles:

a. National Disabled Veterans Winter Sports Clinic Application, VA Form 0924a series.

b. National Veterans Wheelchair Games Application, VA Form 0925a series.

c. National Veterans Golden Age Games Application, VA Form 0926a series.

d. National Veterans TEE Tournament Application, VA Form 0927a series.

e. National Veterans Summer Sports Clinic Application, VA Form 0928a series.

f. National Veterans Creative Arts Festival Application, VA Form 0929a series.

Type of Review: Existing collection in use without an OMB control number.

Abstract: Veterans who are enrolled for VA health care may apply to participate in therapeutic rehabilitation programs such as the National Veterans Wheelchair Games, National Veterans Golden Age Games, National Veterans Creative Arts Festival, National Veterans TEE Tournament, National Disabled Veterans Winter Sports Clinic and the National Veterans Summer Sports Clinic. The data collected will be used to plan, distribute and utilize resources and to allocate clinical and administrative support to patient treatment services.

An agency may not conduct or sponsor, and a person is not required to respond to a collection of information unless it displays a currently valid OMB control number. The Federal Register Notice with a 60-day comment period soliciting comments on this collection of information was published on March 1, 2010, at pages 9277-9278.

Affected Public: Individuals or households.

Estimated Annual Burden:

a. VA Form 0924a series—233 hours.

b. VA Form 0925a series—238 hours.

c. VA Form 0926a series—533 hours.

d. VA Form 0927a series—133 hours.

e. VA Form 0928a series—53 hours.

f. VA Form 0929a series—67 hours.

Estimated Average Burden per Respondent: 20 minutes.

Frequency of Response: On occasion.

Estimated Number of Respondents:

a. VA Form 0924a series—700.

b. VA Form 0925a series—715.

c. VA Form 0926a series—1,600.

d. VA Form 0927a series—400.

e. VA Form 0928a series—160.

f. VA Form 0929a series—200.

Dated: May 4, 2010.
By direction of the Secretary.
Denise McLamb,
Enterprise Records Service.

[FR Doc. 2010-10798 Filed 5-6-10; 8:45 am]

BILLING CODE 8320-01-P